NUCLEAR REGULATORY COMMISSION

[Docket No. 030-08631]

Environmental Assessment and Finding of No Significant Impact Related to Issuance of a License Amendment of U.S. Nuclear Regulatory Commission Byproduct Material License No. 32-14048-04; U.S. Environmental Protection Agency

I. Summary

The U.S. Nuclear Regulatory Commission (NRC) is considering amending Byproduct Material License No. 32-14048-04 to authorize the release of one of the licensee's facilities in Research Triangle Park, North Carolina for unrestricted use and has prepared an Environmental Assessment (EA) and Finding of No Significant Impact (FONSI) in support of this action.

The NRC has reviewed the results of the final survey of the Environmental Protection Agency facility in Research Triangle Park, North Carolina, and has performed an in-process inspection and confirmatory survey. The Environmental Protection Agency (EPA) was authorized by NRC from June 6, 1972, to the present to use radioactive materials for research and development purposes at various sites in the Research Triangle Park area in North Carolina. The main isotopes of interest are carbon 14, cadmium 109, natural uranium, and tritium. By letter dated November 11, 1999, the EPA notified the NRC of its plans to vacate the Environmental Research Center (ERC). In January 2001, the EPA published a Final Finding of No Significant Impact and Programmatic Assessment for Remediation and Decontamination of EPA's Research Triangle Park, North Carolina facilities. The EPA has conducted surveys of the facility and determined that the facility meets the license termination criteria in Subpart E of 10 CFR part 20. The NRC staff has evaluated the EPA's request, results of the survey and submitted documentation, has performed an in-process inspection and confirmatory survey, and has developed an EA in accordance with the requirements of 10 CFR part 51. Based on the staff evaluation, the conclusion of the EA is a Finding of No Significant Impact on human health and the environment for the proposed licensing action.

II. Environmental Assessment

Introduction

The EPA has requested release, for unrestricted use, of their building located at 86 T.W. Alexander Drive in Research Triangle Park, North Carolina, as authorized for use by NRC License No. 32-14048-04. This license was issued on June 6, 1972, and amended periodically since that time. NRC-licensed activities performed at the ERC were limited to laboratory procedures typically performed on bench tops and in hoods. No outdoor areas were affected by the use of licensed materials. Licensed activities ceased in February 2003, with the exception of the performance of surveys to determine the final status of the facility which were concluded in May 30, 2003. Based on the licensee's historical knowledge of the sites and the condition of the facility, the licensee determined that only routine decontamination activities, in accordance with licensee radiation safety procedures, were required. The licensee surveyed the facility and provided documentation that the facility meets the license termination criteria specified in Subpart E of 10 CFR part 20, “Radiological Criteria for License Termination.” NRC staff performed an in-process inspection and confirmatory survey.

Proposed Action

The proposed action is to amend NRC Radioactive Materials License No. 32-14048-04 to release the ERC located at 86 T.W. Alexander Drive in Research Triangle Park, North Carolina, for unrestricted use. By letter dated June 26, 2003, the EPA provided survey results which demonstrate that the ERC is in compliance with the radiological criteria for license termination in Subpart E of 10 CFR part 20, “Radiological Criteria for License Termination.” These results were confirmed during an in-process inspection performed by NRC staff.

Purpose and Need for the Proposed Action

The purpose of the proposed action is to release the ERC located at 86 T.W. Alexander Drive in Research Triangle Park, North Carolina, for unrestricted use and to amend the EPA license to remove this facility as an authorized location of use. This will allow the EPA to discontinue leasing the building. The need for the proposed action is to comply with NRC regulations and the Timeliness Rule. NRC is fulfilling its responsibilities under the Atomic Energy Act to make a decision on a proposed license amendment for release of facilities for unrestricted use that ensures protection of the public health and safety and environment.

Alternatives to the Proposed Action

The only alternative to the proposed action of amending the license and release of the ERC for unrestricted use is no action. The no-action alternative is not acceptable because it will result in violation of NRC's Timeliness Rule (10 CFR 30.36), which requires licensees to decommission their facilities when licensed activities cease. The licensee does not plan to perform any activities with licensed materials at this location. Maintaining the area under a license would reduce options for future use of the property and cause the EPA to continue leasing a building for which it has no more use.

The Affected Environment and Environmental Impacts

The NRC staff has reviewed the survey results provided by the EPA to demonstrate compliance with 10 CFR 20.1402 license termination criteria and the EPA's published EA and FONSI. Based on its review, and on the results of the NRC inspection and confirmatory survey, the staff has determined that the affected environment and environmental impacts associated with the decommissioning of the EPA's ERC are bounded by the impacts evaluated by the “Generic Environmental Impact Statement in Support of Rulemaking on Radiological Criteria for License Termination of NRC-Licensed Facilities” (NUREG-1496). The staff also finds that the proposed decommissioning of the EPA's ERC is in compliance with 10 CFR 20.1402, the radiological criteria for unrestricted use.

The ERC is a multilevel facility constructed of concrete-reinforced steel, with a brick exterior and flat roof. It contains 253,390 net square feet of space and consists of buildings, greenhouses, storage sheds, cooling towers, storage tanks, groundwater monitoring wells, air-conditioning units, parking lots, and property related articles. Radioactive materials were primarily used in laboratories on lab benches and within fume hoods. The ERC is located within a portion of Durham County with covenants in place that specify that only research be conducted within the facilities located therein.

Licensed material has been disposed of or transferred to the licensee's new facility with the one exception of a sea/land cargo box containing packaged radioactive waste containers. The license will not be amended until this container has been transferred to the EPA's new facility. The licensee's documentation indicates that no contamination exists above the limits for unconditional release. All of these activities were performed as authorized by the operating license.

Agencies and Persons Contacted and Sources Used

This EA was prepared by NRC Staff using information provided by the EPA. The North Carolina Department of Environment and Natural Resources (NCDENR) was contacted for comment by the EPA and responded by letter dated January 11, 2000. No opposition to the project was noted. The North Carolina Department of Cultural Resources was also contacted by the EPA and responded by letter dated February 11, 2000, with no comment on the project. According to the National Register Information System and the Durham County Historic Inventory, neither of the subject facilities are registered as historic structures or historical areas, and no areas of historical value appear to exist within a 1-mile radius of the ERC.

Conclusion

Based on its review, the NRC staff has concluded that the proposed action complies with 10 CFR part 20. NRC has prepared this EA in support of the proposed license amendment to release the ERC for unrestricted use. On the basis of the EA, NRC has concluded that the environmental impacts from the proposed action are expected to be insignificant and has determined that preparation of an environmental impact statement for the proposed action is not required.

List of Preparers

Orysia Masnyk Bailey, Materials Licensing/Inspection Branch 1, Division of Nuclear Materials Safety, Health Physicist.

List of References

1. NRC License No. 32-14048-04, Docket No. 030-08631 inspection and licensing records.

2. EPA. “Advance Notice of Program Change” Letter dated from J. Morris to NRC dated November 22, 1999.

3. EPA. “Site Characterization/Final Status Report” dated June 26, 2003.

4. Title 10 Code of Federal Regulations Part 20, Subpart E, “Radiological Criteria for License Termination.”

5. Federal Register Notice, Volume 65, No. 114, page 37186, dated Tuesday, June 13, 2000, “Use of Screening Values to Demonstrate Compliance With The Federal Rule on Radiological Criteria for License Termination.”

6. Booz-Allen & Hamilton. “Finding of No Significant Impact For Remediation And Decontamination Of U.S. Environmental Protection Agency's Research Triangle Park, North Carolina Facilities” dated January 2001. (ML031000189)

7. North Carolina Department of Environment and Natural Resources. “Rare Species, High Quality Communities, and Significant Natural Heritage Areas at Three EPA Sites At Page Road and I-40 and Alexander Drive, RTP, Durham County, North Carolina” Letter from S. Reece Giles to Booz-Allen & Hamilton, dated January 11, 2000.

8. North Carolina Department of Cultural Resources. “Section 106 of the National Historic Preservation Act” Letter from D. Brook to Booz-Allen & Hamilton dated February 11, 2000.

9. NRC Inspection Report No. 32-14048-04/2001-001, March 3-7, 2003. (ML030930159)

III. Finding Of No Significant Impact

Based upon the environmental assessment, the staff concludes that the proposed action will not have a significant impact on the quality of the human environment. Accordingly, the staff has determined that preparation of an environmental impact statement is not warranted.

IV. Further Information

The references listed above are available for public inspection and may also be copied for a fee at the NRC's Public Document Room, located at One White Flint North, 11555 Rockville Pike, Rockville, Maryland 20852. These documents are also available for public review through ADAMS, the NRC's electronic reading room, at: http://www.nrc.gov/reading-rm/adams.htlm. Any questions with respect to this action should be referred to Orysia Masnyk Bailey, Materials Licensing/Inspection Branch 1, Division of Nuclear Materials Safety, U. S. Nuclear Regulatory Commission, Region II, Suite 23T85, 61 Forsyth Street, SW, Atlanta, Georgia 30303-8931. Telephone 404-562-4739.

Dated at Atlanta, Georgia the 7th day of July, 2003.
For The U.S. Nuclear Regulatory Commission.
Douglas M. Collins,
Director, Division of Nuclear Materials Safety, Region II.

[FR Doc. 03-18412 Filed 7-18-03; 8:45 am]

BILLING CODE 7590-01-P